DEPARTMENT OF ENERGY

Federal Energy Regulatory Commission

Combined Notice of Filings #1

Take notice that the Commission received the following electric corporate filings:

Docket Numbers: EC23-136-000.

Applicants: Cane Creek Solar, LLC, PGR 2022 Lessee 4, LLC.

Description: Joint Application for Authorization Under Section 203 of the Federal Power Act of Cane Creek Solar, LLC, et al.

Filed Date: 9/27/23.

Accession Number: 20230927-5124.

Comment Date: 5 p.m. ET 10/18/23.

Docket Numbers: EC23-137-000.

Applicants: Saguaro Power Company, A Limited Partnership.

Description: Application for Authorization Under Section 203 of the Federal Power Act of Saguaro Power Company, A Limited Partnership.

Filed Date: 9/28/23.

Accession Number: 20230928-5126.

Comment Date: 5 p.m. ET 10/19/23.

Take notice that the Commission received the following exempt wholesale generator filings:

Docket Numbers: EG23-308-000.

Applicants: Lone Star Solar, LLC.

Description: Lone Star Solar, LLC submits Notice of Self-Certification of Exempt Wholesale Generator Status.

Filed Date: 9/27/23.

Accession Number: 20230927-5112.

Comment Date: 5 p.m. ET 10/18/23.

Take notice that the Commission received the following Complaints and Compliance filings in EL Dockets:

Docket Numbers: EL23-103-000.

Applicants: City of Tacoma, Department of Public Utilities, Light Division v. California Independent System Operator Corporation.

Description: Complaint of City of Tacoma, Department of Public Utilities, Light Division d/b/a Tacoma Power vs. California Independent System Operator Corporation.

Filed Date: 9/28/23.

Accession Number: 20230928-5020.

Comment Date: 5 p.m. ET 10/30/23.

Take notice that the Commission received the following electric rate filings:

Docket Numbers: ER18-2102-004.

Applicants: PJM Interconnection, L.L.C.

Description: Compliance filing: East Kentucky Power Cooperative, Inc. submits tariff filing per 35: PJM TOs Compliance Filing in ER18-2102 to be effective 1/1/2016.

Filed Date: 9/28/23.

Accession Number: 20230928-5083.

Comment Date: 5 p.m. ET 10/19/23.

Docket Numbers: ER22-736-004.

Applicants: System Energy Resources, Inc.

Description: Compliance filing: eTariff Compliance in Docket No. ER22-736 to be effective 3/1/2022.

Filed Date: 9/27/23.

Accession Number: 20230927-5101.

Comment Date: 5 p.m. ET 10/18/23.

Docket Numbers: ER23-2937-000.

Applicants: Bird Dog Solar, LLC.

Description: Baseline eTariff Filing: Application for Market Based Rate Authority to be effective 11/30/2023.

Filed Date: 9/28/23.

Accession Number: 20230928-5000.

Comment Date: 5 p.m. ET 10/19/23.

Docket Numbers: ER23-2938-000.

Applicants: Blackwater Solar, LLC.

Description: Baseline eTariff Filing: Application for Market Based Rate Authority to be effective 11/30/2023.

Filed Date: 9/28/23.

Accession Number: 20230928-5001.

Comment Date: 5 p.m. ET 10/19/23.

Docket Numbers: ER23-2939-000.

Applicants: Wolfskin Solar, LLC.

Description: Baseline eTariff Filing: Application for Market Based Rate Authority to be effective 11/30/2023.

Filed Date: 9/28/23.

Accession Number: 20230928-5086.

Comment Date: 5 p.m. ET 10/19/23.

Docket Numbers: ER23-2940-000.

Applicants: ISO New England Inc.

Description: 205(d) Rate Filing: ISO-NE/PTO AC; Rev. to Att. F to Correct Minor Errors in Formula Rate Template to be effective 11/28/2023.

Filed Date: 9/28/23.

Accession Number: 20230928-5006.

Comment Date: 5 p.m. ET 10/19/23.

Docket Numbers: ER23-2941-000.

Applicants: Talen Conemaugh LLC.

Description: Baseline eTariff Filing: Market-Based Rate Application to be effective 11/28/2023.

Filed Date: 9/28/23.

Accession Number: 20230928-5008.

Comment Date: 5 p.m. ET 10/19/23.

Docket Numbers: ER23-2942-000.

Applicants: PJM Interconnection, L.L.C.

Description: 205(d) Rate Filing: Amendment to WMPA, SA No. 5591; Queue No. AE2-054 (amend) to be effective 11/28/2023.

Filed Date: 9/28/23.

Accession Number: 20230928-5009.

Comment Date: 5 p.m. ET 10/19/23.

Docket Numbers: ER23-2943-000.

Applicants: Talen Keystone LLC.

Description: Baseline eTariff Filing: Market-Based Rate Application to be effective 11/28/2023.

Filed Date: 9/28/23.

Accession Number: 20230928-5014 .

Comment Date: 5 p.m. ET 10/19/23.

Docket Numbers: ER23-2944-000.

Applicants: Southwest Power Pool, Inc.

Description: 205(d) Rate Filing: 4137 AECI and OPPD Facilities Construction Agreement to be effective 11/27/2023.

Filed Date: 9/28/23.

Accession Number: 20230928-5021.

Comment Date: 5 p.m. ET 10/19/23.

Docket Numbers: ER23-2945-000.

Applicants: PJM Interconnection, L.L.C.

Description: 205(d) Rate Filing: Amendment to WMPA, Service Agreement No. 5874; Queue No. AF1-006 to be effective 11/28/2023.

Filed Date: 9/28/23.

Accession Number: 20230928-5023.

Comment Date: 5 p.m. ET 10/19/23.

Docket Numbers: ER23-2946-000.

Applicants: PJM Interconnection, L.L.C.

Description: 205(d) Rate Filing: Amendment to WMPA, Service Agreement No. 6868; Queue No. AF2-165 to be effective 11/28/2023.

Filed Date: 9/28/23.

Accession Number: 20230928-5028.

Comment Date: 5 p.m. ET 10/19/23.

Docket Numbers: ER23-2947-000.

Applicants: Midcontinent Independent System Operator, Inc., Montana-Dakota Utilities Co.

Description: 205(d) Rate Filing: Midcontinent Independent System Operator, Inc. submits tariff filing per 35.13(a)(2)(iii): 2023-09-28_MDU Depreciation Rates related to Retail Rates to be effective 10/1/2023.

Filed Date: 9/28/23.

Accession Number: 20230928-5041.

Comment Date: 5 p.m. ET 10/19/23.

Docket Numbers: ER23-2948-000.

Applicants: PJM Interconnection, L.L.C.

Description: 205(d) Rate Filing: Amendment to ISA, Service Agreement No. 6831; Queue No. AE2-176 to be effective 11/28/2023.

Filed Date: 9/28/23.

Accession Number: 20230928-5044.

Comment Date: 5 p.m. ET 10/19/23.

Docket Numbers: ER23-2949-000.

Applicants: Montour, LLC.

Description: Tariff Amendment: Notice of Cancellation to be effective 12/31/9998.

Filed Date: 9/28/23.

Accession Number: 20230928-5049.

Comment Date: 5 p.m. ET 10/19/23.

Docket Numbers: ER23-2950-000.

Applicants: PacifiCorp.

Description: 205(d) Rate Filing: UAMPS Construction Agmt Temp Tap Rev 2 to be effective 11/28/2023.

Filed Date: 9/28/23.

Accession Number: 20230928-5054.

Comment Date: 5 p.m. ET 10/19/23.

Docket Numbers: ER23-2951-000.

Applicants: Montour, LLC.

Description: Tariff Amendment: Notice of Cancellation to be effective 12/31/9998.

Filed Date: 9/28/23.

Accession Number: 20230928-5058.

Comment Date: 5 p.m. ET 10/19/23.

Docket Numbers: ER23-2952-000.

Applicants: Wind Stream Properties, LLC.

Description: Baseline eTariff Filing: Wind Stream Operations, LLC Initial MBR Application to be effective 1/1/2024.

Filed Date: 9/28/23.

Accession Number: 20230928-5077.

Comment Date: 5 p.m. ET 10/19/23.

Docket Numbers: ER23-2953-000.

Applicants: PJM Interconnection, L.L.C.

Description: 205(d) Rate Filing: ISA, First Revised Service Agreement No. 5979; Queue No. AD2-085/AE2-247/AF1-019 to be effective 11/28/2023.

Filed Date: 9/28/23.

Accession Number: 20230928-5106.

Comment Date: 5 p.m. ET 10/19/23.

Docket Numbers: ER23-2954-000.

Applicants: PJM Interconnection, L.L.C.

Description: 205(d) Rate Filing: Revised ISA, Service Agreement No. 5756; Queue No. AG1-513 to be effective 11/28/2023.

Filed Date: 9/28/23.

Accession Number: 20230928-5119.

Comment Date: 5 p.m. ET 10/19/23.

Docket Numbers: ER23-2955-000.

Applicants: Presumpscot Hydro LLC

Description: Notice of Cancellation of Market Based Rate Tariff of Presumpscot Hydro LLC.

Filed Date: 9/28/23.

Accession Number: 20230928-51323.

Comment Date: 5 p.m. ET 10/19/23.

Take notice that the Commission received the following electric securities filings:

Docket Numbers: ES23-80-000.

Applicants: Jersey Central Power & Light Company.

Description: Application Under Section 204 of the Federal Power Act for Authorization to Issue Securities of Jersey Central Power & Light Company.

Filed Date: 9/27/23.

Accession Number: 20230927-5126.

Comment Date: 5 p.m. ET 10/18/23.

Docket Numbers: ES23-81-000.

Applicants: FirstEnergy Pennsylvania Electric Company.

Description: Application Under Section 204 of the Federal Power Act for Authorization to Issue Securities of FirstEnergy Pennsylvania Electric Company.

Filed Date: 9/27/23.

Accession Number: 20230927-5127.

Comment Date: 5 p.m. ET 10/18/23.

Docket Numbers: ES23-82-000.

Applicants: Keystone Appalachian Transmission Company.

Description: Application Under Section 204 of the Federal Power Act for Authorization to Issue Securities of Keystone Appalachian Transmission Company.

Filed Date: 9/27/23.

Accession Number: 20230927-5128.

Comment Date: 5 p.m. ET 10/18/23.

Docket Numbers: ES23-83-000.

Applicants: PPL Electric Utilities Corporation.

Description: Application Under Section 204 of the Federal Power Act for Authorization to Issue Securities of PPL Electric Utilities Corporation.

Filed Date: 9/28/23.

Accession Number: 20230928-5116.

Comment Date: 5 p.m. ET 10/19/23.

Docket Numbers: ES23-84-000.

Applicants: The Connecticut Light and Power Company.

Description: Application Under Section 204 of the Federal Power Act for Authorization to Issue Securities of The Connecticut Light and Power Company.

Filed Date: 9/28/23.

Accession Number: 20230928-5118.

Comment Date: 5 p.m. ET 10/19/23.

Docket Numbers: ES23-85-000.

Applicants: NSTAR Electric Company.

Description: Application Under Section 204 of the Federal Power Act for Authorization to Issue Securities of NSTAR Electric Company.

Filed Date: 9/28/23.

Accession Number: 20230928-5124.

Comment Date: 5 p.m. ET 10/19/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 28, 2023.
Debbie-Anne A. Reese,
Deputy Secretary.

[FR Doc. 2023-22017 Filed 10-3-23; 8:45 am]

BILLING CODE 6717-01-P